SECURITIES AND EXCHANGE COMMISSION

[Release No. 34-80930A; File No. 4-698]

Joint Industry Plan; Notice of Filing and Immediate Effectiveness of Amendment No. 2 to the National Market System Plan Governing the Consolidated Audit Trail by Bats BYX Exchange, Inc., Bats BZX Exchange, Inc., Bats EDGA Exchange, Inc., Bats EDGX Exchange, Inc., BOX Options Exchange LLC, C2 Options Exchange, Incorporated, Chicago Board Options Exchange, Incorporated, Chicago Stock Exchange, Inc., Financial Industry Regulatory Authority, Inc., Investors' Exchange LLC, Miami International Securities Exchange, LLC, MIAX PEARL, LLC, NASDAQ BX, Inc., Nasdaq GEMX, LLC, Nasdaq ISE, LLC, Nasdaq MRX, LLC, NASDAQ PHLX LLC, The NASDAQ Stock Market LLC, New York Stock Exchange LLC, NYSE Arca, Inc., NYSE MKT LLC and NYSE National, Inc.; Correction

June 30, 2017.

AGENCY: Securities and Exchange Commission.

ACTION: Notice; correction.

SUMMARY: The Securities and Exchange Commission published a document in the Federal Register on June 20, 2017, concerning a Notice of Filing and Immediate Effectiveness of Amendment No. 2 to the National Market System Plan Governing the Consolidated Audit Trail. The document contained two typographical errors.

FOR FURTHER INFORMATION CONTACT: Jennifer L. Colihan, Special Counsel, Division of Trading and Markets, Securities and Exchange Commission, 100 F Street NE., Washington, DC 20549, (202) 551-5642.

Correction

In the Federal Register of June 20, 2017, in FR Doc 2017-12771, on page 28180, in the first line under the heading “Introduction” in the second column, correct the date “May 9, 2017” instead to “May 23, 2017.”

On page 28180, in footnote 4 in the third column, correct the date “May 8, 2017” instead to “May 22, 2017.” Add the following sentence after the first sentence of footnote 4, “The Participants initially submitted the amendment on May 9, 2017, but subsequently withdrew the amendment and refiled the submission on May 23, 2017.”

Brent J. Fields,
Secretary.

[FR Doc. 2017-14199 Filed 7-5-17; 8:45 am]

BILLING CODE 8011-01-P